DEPARTMENT OF THE INTERIOR

National Park Service

[NPS-WASO-NAGPRA-NPS0036553; PPWOCRADN0-PCU00RP14.R50000]

Notice of Inventory Completion: Peabody Museum of Archaeology and Ethnology, Harvard University, Cambridge, MA

AGENCY: National Park Service, Interior.

ACTION: Notice.

SUMMARY: In accordance with the Native American Graves Protection and Repatriation Act (NAGPRA), the Peabody Museum of Archaeology and Ethnology, Harvard University (PMAE) has completed an inventory of human remains and associated funerary objects and has determined that there is no cultural affiliation between the human remains and associated funerary objects and any Indian Tribe. The human remains and associated funerary objects were removed from Jefferson County, CO.

DATES: Disposition of the human remains and associated funerary objects in this notice may occur on or after October 16, 2023.

ADDRESSES: Patricia Capone, PMAE, Harvard University, 11 Divinity Avenue, Cambridge, MA 02138, telephone (617) 496-3702, email pcapone@fas.harvard.edu.

SUPPLEMENTARY INFORMATION: This notice is published as part of the National Park Service's administrative responsibilities under NAGPRA. The determinations in this notice are the sole responsibility of PMAE. The National Park Service is not responsible for the determinations in this notice. Additional information on the determinations in this notice, including the results of consultation, can be found in the inventory or related records held by PMAE.

Description

In 1959 and 1960, the human remains of, at minimum, six individuals were removed by Cynthia Irwin-Williams and Henry Irwin from the Magic Mountain site (5JF223), in Jefferson County, CO, during field excavations undertaken on behalf of Harvard University. The six associated funerary objects are three shell beads, one shell fragment, one lot consisting of charcoal and dirt, and one lot consisting of faunal remain fragments.

Sometime prior to 1960, the human remains of, at minimum, three individuals were removed by amateur archeologist Jack Putnam from the Magic Mountain site (5JF223) in Jefferson County, CO. These human remains were donated by Putnam to PMAE at an unknown date. The 10 associated funerary objects are one antler fragment, two chipped stone flakes, one organic floral remain, and six faunal remain fragments.

In 1940, the human remains of, at minimum, one individual were removed by Harold A. and Betty H. Huscher of the Colorado Museum of Natural History (now Denver Museum of Nature and Science) from the Magic Mountain Site (5JF223) in Jefferson County, CO. In 1960 or later, the human remains came into the possession of PMAE. The one associated funerary object is a faunal remain fragment.

Aboriginal Land

The human remains and associated funerary objects in this notice were removed from a known geographic location. This location is the aboriginal lands of one or more Indian Tribes. The following information was used to identify the aboriginal land: a final judgment of the Indian Claims Commission and a treaty.

Determinations

Pursuant to NAGPRA and its implementing regulations, and after consultation with the appropriate Indian Tribes, the PMAE has determined that:

• The human remains described in this notice represent the physical remains of 10 individuals of Native American ancestry.

• The 17 objects described in this notice are reasonably believed to have been placed with or near individual human remains at the time of death or later as part of the death rite or ceremony.

• No relationship of shared group identity can be reasonably traced between the human remains and associated funerary objects and any Indian Tribe.

• The human remains and associated funerary objects described in this notice were removed from the aboriginal land of the Cheyenne and Arapaho Tribes, Oklahoma; Northern Arapaho Tribe of the Wind River Reservation, Wyoming; and the Northern Cheyenne Tribe of the Northern Cheyenne Indian Reservation, Montana.

Requests for Disposition

Written requests for disposition of the human remains and associated funerary objects in this notice must be sent to the Responsible Official identified in ADDRESSES. Requests for disposition may be submitted by:

1. Any one or more of the Indian Tribes identified in this notice.

2. Any lineal descendant, Indian Tribe, or Native Hawaiian organization not identified in this notice who shows, by a preponderance of the evidence, that the requestor is a lineal descendant or a culturally affiliated Indian Tribe or Native Hawaiian organization, or who shows that the requestor is an aboriginal land Indian Tribe.

Disposition of the human remains and associated funerary objects described in this notice to a requestor may occur on or after October 16, 2023. If competing requests for disposition are received, the PMAE must determine the most appropriate requestor prior to disposition. Requests for joint disposition of the human remains and associated funerary objects are considered a single request and not competing requests. The PMAE is responsible for sending a copy of this notice to the Indian Tribes identified in this notice.

Authority: Native American Graves Protection and Repatriation Act, 25 U.S.C. 3003, and the implementing regulations, 43 CFR 10.9 and 10.11.

Dated: September 8, 2023.
Melanie O'Brien,
Manager, National NAGPRA Program.

[FR Doc. 2023-19958 Filed 9-14-23; 8:45 am]

BILLING CODE 4312-52-P